DEPARTMENT OF TRANSPORTATION

Federal Aviation Administration

14 CFR Part 39

[Docket No. FAA-2012-1214; Directorate Identifier 2011-SW-071-AD]

RIN 2120-AA64

Airworthiness Directives; Eurocopter France Helicopters

AGENCY: Federal Aviation Administration (FAA), DOT.

ACTION: Notice of proposed rulemaking (NPRM).

SUMMARY: We propose to adopt a new airworthiness directive (AD) for Eurocopter France Model EC 155B, EC155B1, SA-366G1, SA-365N, SA-365N1, AS-365N2, and AS 365 N3 helicopters, which would require modifying the fuel tank draining system. This proposed AD is prompted by a closed fuel tank drain that, in the event of a fuel leak, could result in fuel accumulating in an area containing electrical equipment. The proposed actions are intended to prevent accumulation of fuel in an area with electrical equipment or other ignition source, which may lead to a fire.

DATES: We must receive comments on this proposed AD by January 25, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket: You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact American Eurocopter Corporation, 2701 N. Forum Drive, Grand Prairie, TX 75052; telephone (972) 641-0000 or (800) 232-0323; fax (972) 641-3775; or at http://www.eurocopter.com/techpub. You may review a copy of the referenced service information at the FAA, Office of the Regional Counsel, Southwest Region, 2601 Meacham Blvd., Room 663, Fort Worth, Texas 76137.

FOR FURTHER INFORMATION CONTACT: Chinh Vuong, Aviation Safety Engineer, Safety Management Group, Rotorcraft Directorate, FAA, 2601 Meacham Blvd., Fort Worth, Texas 76137; telephone (817) 222-5110; email chinh.vuong@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, has issued EASA AD No. 2011-0190, dated September 30, 2011 (AD No. 2011-0190), to correct an unsafe condition for the Eurocopter France EC 155, SA 366, SA 365, and AS 365 model helicopters, except those with certain modifications. EASA reports that the fuel tank drains were closed with plugs during production to maintain buoyancy during emergency landings in water. EASA states that this closing of the fuel tank drains with plugs “disregards compliance with an airworthiness certification requirement” and, in the event of a fuel leak in flight, creates “the risk of fuel accumulation and/or migration” to an adjacent area that may contain electrical equipment “susceptible of constituting a source of ignition.” EASA states that this condition, if not corrected, could result in ignition of fuel vapors, “resulting in a fire and consequent damage to the helicopter, or injury to its occupants.” As a result, EASA required modification of the fuel tank compartments' draining system.

FAA's Determination

These helicopters have been approved by the aviation authority of France and are approved for operation in the United States. Pursuant to our bilateral agreement with France, EASA, its technical representative, has notified us of the unsafe condition described in its AD. We are proposing this AD because we evaluated all known relevant information and determined that an unsafe condition is likely to exist or develop on other products of these same type designs.

Related Service Information

Eurocopter issued Alert Service Bulletin (ASB) No. EC155-53A031 for its B and B1 model helicopters, ASB No. AS366-53.11 for its G1 model helicopters, and ASB No. AS365-53.00.50 for its N, N1, N2 and N3 model helicopters. The ASBs were all dated May 3, 2011, and were all followed with Revision 1 dated September 21, 2011.

For helicopters not equipped with emergency buoyancy fixed parts, the ASBs describe procedures to modify the fuel tank draining system by removing drain plugs in the fuel tanks, to make draining possible. For helicopters equipped with emergency buoyancy fixed parts, the ASBs contain additional procedures to seal one drain plug per fuel tank compartment and to install new drain points and self-sealing drain valves in specified fuel tanks. EASA AD No. 2011-0190 classifies these ASBs as mandatory to ensure the airworthiness of these helicopters.

Proposed AD Requirements

This proposed AD would require compliance with certain sections within paragraph 3.B.2 of the manufacturer's service bulletins. Helicopters equipped with emergency buoyancy fixed parts would be required to comply within six months, and helicopters not equipped with emergency buoyancy fixed parts would be required to comply within 110 hours time-in-service.

Costs of Compliance

We estimate that this proposed AD would affect 46 helicopters of U.S. Registry and that labor costs average $85 per work-hour. Based on these estimates, we would expect the following costs:

Sealing drain plugs, and installing new drain points and self-sealing drain valves at other locations on helicopters equipped with emergency buoyancy fixed parts would require 16 work-hours. Parts would cost $11,154 for a total cost of $12,514 per helicopter. For helicopters equipped with emergency buoyancy fixed parts and a sixth fuel tank, this work would instead require 17 work-hours for a total cost of $12,599 per helicopter.

Removing drain plugs on helicopters not equipped with emergency buoyancy fixed parts would require one work-hour and no parts for a total cost of $85 per helicopter. For helicopters not equipped with emergency buoyancy fixed parts but equipped with a sixth fuel tank, this work would instead require two work-hours for a total cost of $170 per helicopter.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Eurocopter France: Docket No. FAA-2012-1214; Directorate Identifier 2011-SW-071-AD.

(a) Applicability

This AD applies to Eurocopter France Model EC 155B, EC155B1, and SA-366G1 helicopters, except those with modification 365A084485.00, or modifications 0753C98 and 0745C96; and Model SA-365N, SA-365N1, AS-365N2, and AS 365 N3 helicopters, except those with modifications 0753C98, 0745C96, and (if a sixth fuel tank is installed) 365A081003.00, or modification 365A081003.00 and (if a sixth fuel tank is installed) 365A084485.00.

(b) Unsafe Condition

This AD defines the unsafe condition as a closed fuel tank drain that, in the event of a fuel leak, could result in fuel accumulating in an area containing electrical equipment or other ignition source. This condition could result in a fire in the helicopter.

(c) Compliance

You are responsible for performing each action required by this AD within the specified compliance time unless it has already been accomplished prior to that time.

(d) Required Actions

(1) Within 110 hours time-in-service (TIS):

(i) For helicopters without an emergency buoyancy system, remove the fuel tank drain plugs listed in the Accomplishment Instructions, paragraph 3.B.2.b., of Eurocopter Alert Service Bulletin (ASB) No. EC155-53A031, Revision 1, dated September 21, 2011 (ASB 155); ASB No. AS365-53.00.50, Revision 1, dated September 21, 2011 (ASB 365), or ASB No. AS366-53.11, Revision 1, dated September 21, 2011 (ASB 366), as appropriate for your model helicopter.

(ii) For the Model SA-365N, SA-365N1, AS-365N2, and AS 365 N3 helicopters, if there is an optional sixth fuel tank installed, install a self-sealing drain valve in accordance with paragraph 3.B.2.c. of the ASB.

(2) Within six months:

(i) For helicopters with an emergency buoyancy system, modify the fuel tank drain system in accordance with the Accomplishment Instructions, paragraphs 3.B.2.a.1. through 3.B.2.a.3, of the ASB appropriate for your model helicopter.

(ii) For the Model SA-365N, SA-365N1, AS-365N2, AS 365 N3 helicopters, if there is an optional sixth fuel tank installed, install a self-sealing drain valve in accordance with paragraph 3.B.2.c. of the ASB.

(e) Alternative Methods of Compliance (AMOC)

(1) The Manager, Safety Management Group, FAA, may approve AMOCs for this AD. Send your proposal to: Chinh Vuong, Aviation Safety Engineer, Safety Management Group, Rotorcraft Directorate, FAA, 2601 Meacham Blvd., Fort Worth, Texas 76137; telephone (817) 222-5110; email chinh.vuong@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(f) Additional Information

The subject of this AD is addressed in European Aviation Safety Agency (EASA) AD No. 2011-0190, dated September 30, 2011.

(g) Subject

Joint Aircraft Service Component (JASC) Code: 2810, fuel storage.

Issued in Fort Worth, Texas, on November 8, 2012.
Lance T. Gant,
Acting Directorate Manager, Rotorcraft Directorate, Aircraft Certification Service.

[FR Doc. 2012-28435 Filed 11-23-12; 8:45 am]

BILLING CODE 4910-13-P